DEPARTMENT OF ENERGY

Federal Energy Regulatory Commission

[Docket No. CP15-521-000]

Gulf LNG Liquefaction Company, LLC, Gulf LNG Energy, LLC, Gulf LNG Pipelines, LLC; Notice of Schedule for Environmental Review of the Gulf LNG Liquefaction Project

On June 19, 2015, Gulf LNG Liquefaction Company, LLC and Gulf LNG Energy, LLC, and Gulf LNG Pipeline, LLC (collectively referred to as Gulf LNG) filed an application with the Federal Energy Regulatory Commission (FERC or Commission) in Docket No. CP15-521-000 pursuant to section 3(a) and 7(c) of the Natural Gas Act, requesting authorization to construct and operate the Gulf LNG Liquefaction Project (Project) at Gulf Energy's existing import liquefied natural gas (LNG) terminal in Jackson County, Mississippi. Within the same application, Gulf LNG Pipeline, LLC proposes to make modifications to the terminal's send-out pipeline to allow for bi-directional flow. The Project would expand the terminal to enable it to liquefy approximately 11 million metric tons of LNG per year for export. On June 15, 2012, in Order No. 3104, the U.S. Department of Energy, Office of Fossil Energy, granted to Gulf LNG authorization to export LNG by vessel from the terminal to Free Trade Agreement nations. On August 31, 2012, Gulf LNG filed an application with the U.S. Department of Energy, Office of Fossil Energy, for a long-term, multi-contract authorization to export LNG to Non-Free Trade Agreement nations. A decision by the U.S. Department of Energy, Office of Fossil Energy is still pending.

FERC issued its Notice of Application for the Project on July 1, 2015. Among other things, that notice alerted other agencies issuing federal authorizations of the requirement to complete all necessary reviews and to reach a final decision on the request for a federal authorization within 90 days of the date of issuance of the Commission staff's final environmental impact statement (EIS) for the Project. This notice identifies the FERC staff's planned schedule for completion of the final EIS for the Gulf LNG Liquefaction Project, which is based on an issuance of the draft EIS in November 2018. The forecasted schedule for both the draft and final EIS is based upon Gulf LNG providing complete and timely responses to any future data requests. In addition, the schedule assumes that the cooperating agencies will provide input on their areas of responsibility on a timely basis.

Schedule for Environmental Review

Issuance of Notice of Availability of the final EIS—April 17, 2019

90-Day Federal Authorization Decision Deadline—July 16, 2019

If a schedule change becomes necessary for the final EIS, an additional notice will be provided so that the relevant agencies are kept informed of project's progress.

Background

On May 21, 2014, the Commission staff granted Gulf LNG's request to use FERC's pre-filing environmental review process and assigned the Gulf LNG Liquefaction Project Docket No. PF13-4-000. On July 31, 2014, the Commission issued a Notice of Intent to Prepare an Environmental Impact Statement for the Planned Gulf LNG Liquefaction Project, Request for Comments on Environmental Issues, and Notice of Public Scoping Meeting. On August 27, 2014, the Commission issued a Notice of Extension of Time to allow additional time for comments. The notices were sent to federal, state, and local government representatives and agencies; elected officials; environmental and public interest groups; Native American Tribes; affected property owners; other interested parties; and local libraries and newspapers. Major issues raised during scoping include impacts on air and water quality, socioeconomic conditions, environmental justice, federal and state-listed threatened and endangered species, noise levels and nighttime light, visual resources, public safety, and cumulative impacts.

The U.S. Army Corps of Engineers; U.S. Coast Guard; U.S. Department of Energy, Office of Fossil Energy; U.S. Department of Transportation, Pipeline and Hazardous Materials Safety Administration; U.S. Fish and Wildlife Service; National Oceanic and Atmospheric Administration, National Marine Fisheries Service; and U.S. Environmental Protection Agency are cooperating agencies in the preparation of the EIS.

Additional Information

In order to receive notification of the issuance of the EIS and to keep track of all formal issuances and submittals in specific dockets, the Commission offers a free service called eSubscription. This can reduce the amount of time you spend researching proceedings by automatically providing you with notification of these filings, document summaries, and direct links to the documents via email. Go to www.ferc.gov/docs-filing/esubscription.asp.

Additional information about the Gulf LNG Liquefaction Project is available from the Commission's Office of External Affairs at (866) 208-FERC or on the FERC website (www.ferc.gov). Using the eLibrary link, select General Search from the eLibrary menu, enter the selected date range and Docket Number excluding the last three digits (i.e., CP15-521), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: August 31, 2018.
Nathaniel J. Davis, Sr.,
Deputy Secretary.

[FR Doc. 2018-19388 Filed 9-6-18; 8:45 am]

BILLING CODE 6717-01-P